DEPARTMENT OF COMMERCE

International Trade Administration

[A-570-932]

Certain Steel Threaded Rod From the People's Republic of China: Affirmative Preliminary Determination of Circumvention of the Antidumping Duty Order

AGENCY: Import Administration, International Trade Administration, Department of Commerce.

SUMMARY: The Department of Commerce (“Department”) preliminarily determines that imports from the People's Republic of China (“PRC”) of certain steel threaded rod products with 1.25 percent or more chromium, by weight, produced by Gem-Year Industrial Co., Ltd. (“Gem-Year”), and otherwise meeting the description of in-scope merchandise, are within the class or kind of merchandise subject to the Order.¹

¹ See Certain Steel Threaded Rod from the People's Republic of China: Notice of Antidumping Duty Order, 74 FR 17154 (April 14, 2009) (“Order”).

DATES: Effective Date: December 4, 2012.

FOR FURTHER INFORMATION CONTACT: Toni Dach, Office 9, Import Administration, International Trade Administration, U.S. Department of Commerce, 14th Street and Constitution Avenue NW., Washington, DC 20230; telephone: (202) 482-1655.

SUPPLEMENTARY INFORMATION:

Scope of the Antidumping Duty Order

The merchandise covered by the order is steel threaded rod.² Certain steel threaded rod subject to the order is currently classifiable in the Harmonized Tariff Schedule of the United States (“HTSUS”) at subheadings 7318.15.5051, 7318.15.5056, 7318.15.5090, and 7318.15.2095. Although the subheadings are provided for convenience and customs purposes, the written product description remains dispositive.³

² See Preliminary Analysis Memorandum for the Circumvention Inquiry of the Antidumping Duty Order on Certain Steel Threaded Rod from the People's Republic of China, for the Producer Known as Gem-Year Industrial Co., Ltd. (“Preliminary Decision Memorandum”) issued concurrently with this notice for a complete description of the Scope of the Order.

³ See Order.

Scope of the Circumvention Inquiry

The merchandise subject to this antidumping circumvention inquiry consists of steel threaded rod from the PRC produced by Gem-Year containing greater than 1.25 percent chromium, by weight, and otherwise meeting the requirements of the scope of the Order as listed under the “Scope of the Antidumping Duty Order” section above.

Methodology

The Department has conducted this preliminary determination of circumvention in accordance with section 781(c) of the Tariff Act of 1930, as amended (“the Act”), and 19 CFR 351.225. For a full description of the methodology underlying our conclusions, please see the Preliminary Decision Memorandum. The Preliminary Decision Memorandum is a proprietary document with a public version, and the public version is on file electronically via Import Administration's Antidumping and Countervailing Duty Centralized Electronic Service System (“IA ACCESS”). IA ACCESS is available to registered users at http://iaaccess.trade.gov and in the Central Records Unit, room 7046 of the main Department of Commerce building. In addition, a complete public version of the Preliminary Decision Memorandum can be accessed directly on the internet at http://www.trade.gov/ia/. The signed Preliminary Decision Memorandum and the electronic versions of the Preliminary Decision Memorandum are identical in content.

Preliminary Findings

As detailed in the Preliminary Decision Memorandum, we preliminarily determine that imports from the PRC of certain steel threaded rod products with 1.25 percent or more chromium, by weight, produced by Gem-Year, and otherwise meeting the description of in-scope merchandise, are subject to the Order. This preliminary determination applies only to merchandise produced by Gem-Year.

Suspension of Liquidation

In accordance with 19 CFR 351.225(l)(2), we are directing U.S. Customs and Border Protection (“CBP”) to suspend liquidation of entries of merchandise subject to this inquiry produced by Gem-Year, and entered, or withdrawn from warehouse, for consumption on or after January 5, 2012, the date of the initiation of this inquiry. We will also instruct CBP to require a cash deposit of estimated duties at the applicable rates for each unliquidated entry of the product entered, or withdrawn from warehouse, for consumption on or after January 5, 2012, the date of the initiation of this inquiry, in accordance with 19 CFR 351.225(l)(2).

Public Comment

Interested parties are invited to comment on the preliminary results and may submit case briefs and/or written comments according to a schedule released by the Department concurrent with this notice. Interested parties will be notified by the Department of the location and time of any hearing, if one is requested. Interested parties who wish to request a hearing, or to participate if one is requested, must submit a written request to the Assistant Secretary for Import Administration, U.S. Department of Commerce, filed electronically using IA ACCESS. An electronically filed document must be received successfully in its entirety by the Department's electronic records system, IA ACCESS, by 5 p.m. Eastern Standard Time within 20 days after the date of publication of this notice.⁴ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.⁵ Parties should confirm by telephone the date, time, and location of the hearing.

⁴ See 19 CFR 351.310(c).

⁵ See 19 CFR 351.310.

This preliminary determination of circumvention is in accordance with section 781(c) of the Act and 19 CFR 351.225.

Dated: November 23, 2012.
Ronald K. Lorentzen,
Acting Assistant Secretary for Import Administration.

[FR Doc. 2012-29275 Filed 12-3-12; 8:45 am]

BILLING CODE 3510-DS-P